NUCLEAR REGULATORY COMMISSION

[Docket No. 40-8681]

International Uranium (USA) Corporation; Notice of Opportunity for Hearing

AGENCY: Nuclear Regulatory Commission.

ACTION: Notice of Receipt of Request from International Uranium (USA) Corporation to Amend Source Material License SUA-1358 To Receive and Process Alternate Feed Materials from Maywood, New Jersey.

SUMMARY: Notice is hereby given that the U.S. Nuclear Regulatory Commission has received, by letters dated June 15, 2001, June 22, 2001, and August 3, 2001, a request from International Uranium (USA) Corporation (IUSA) to amend its NRC Source Material License SUA-1358, to allow its White Mesa Uranium Mill near Blanding, Utah, to receive and process up to 600,000 cubic yards (840,000 tons) of alternate feed material from the Maywood site located in Maywood, New Jersey. The Maywood site is being remediated under the Formerly Utilized Sites Remedial Action Program (FUSRAP) by the U.S. Army Corps of Engineers. The materials are by-products from the processing of thorium and lanthanum from monazite sands. IUSA is requesting that the material may be received and processed for its source material content. By-products from the extraction of source material will be disposed in lined tailings cells with a groundwater detection monitoring program.

FOR FURTHER INFORMATION CONTACT: Mr. William von Till, Fuel Cycle Licensing Branch, Division of Fuel Cycle Safety and Safeguards, Office of Nuclear Material Safety and Safeguards, U.S. Nuclear Regulatory Commission, Mail Stop T-8A-33, Washington, D.C. 20555. Telephone (301) 415-6251.

SUPPLEMENTARY INFORMATION: By its submittals dated June 15, 2001, June 25, 2001, and August 3, 2001, IUSA requested that the NRC amend Materials License SUA-1358 to allow the receipt and processing of material other than natural uranium ore (i.e., alternate feed material) at its White Mesa uranium mill located near Blanding, Utah. These materials would be used as an “alternate feed material” (i.e., matter that is processed in the mill to remove the uranium but which is different from natural uranium ores, the normal feed material).

IUSA is requesting to receive material from the Maywood, New Jersey FUSRAP site. The site is being remediated under the authority of the U.S. Army Corps of Engineers. This site began operations in 1895 and over the years monazite sands were processed for thorium, lanthanum, and other rare earth elements. Uranium was not extracted and remains in the process residues. The material is currently located in three pits and is also being cleaned up from off-site properties. Material in the three pits is licensed by the NRC under STC-1333 for the Stepan Chemical Company. This license covers 19,000 cubic yards of buried tailings.

The average uranium content, based on 4000 samples, ranges from non-detectable to 0.06 weight percent, with an average grade of 0.0018 percent uranium. However, IUSA is proposing to only receive material that contains higher than 0.01 percent uranium. The thorium content of the material ranges from non-detectable to 3,800 pCi/g with an average of 970 pCi/g. The thorium content is relatively low due to thorium extraction at the Maywood site. IUSA states that hazardous wastes regulated under the Resource Conservation and Recovery Act (RCRA) have not been identified in this material. IUSA also proposes that verification sampling at the Maywood site will be implemented to assure that the material does not contain hazardous wastes regulated under RCRA. IUSA does not have a contract to receive this material at this time and therefore, the exact mode of transporting the materials to the mill has not been determined. Transportation may be similar to that of other alternate feed materials shipped to the mill. This would consist of inter-modal containers shipped by rail then by truck. If the maximum volume requested were to be shipped to the mill, IUSA estimates that 7500 rail cars over seven years by rail and 46-86 truckloads per week would occur. It is more likely that 206,000 cubic yards would be shipped which would consist of 46 truckloads per week. IUSA does not expect there to be an impact from the transportation of these materials due to exclusive-use containers, the small increase in truck traffic (4 to 7.4 percent), and the material will be transported in lined, covered containers.

This application will be reviewed by the staff using NRC formal guidance, “Final Position and Guidance on the Use of Uranium Mill Feed Material Other Than Natural Ores”. The NRC has approved similar amendment requests in the past for separate alternate feed material under this license.

The amendment application is available for public inspection and copying at the NRC Public Document Room, U.S. Nuclear Regulatory Commission Headquarters, Room 0-1F21, 11555 Rockville Pike, Rockville, MD 20852.

Notice of Opportunity for Hearing

The NRC hereby provides notice of an opportunity for a hearing on the license amendment under the provisions of 10 CFR part 2, subpart L, “Informal Hearing Procedures for Adjudications in Materials and Operator Licensing Proceedings.” Pursuant to § 2.1205(a), any person whose interest may be affected by this proceeding may file a request for a hearing. In accordance with § 2.1205(d), a request for hearing must be filed within 30 days of the publication of this notice in the Federal Register. The request for a hearing must be filed with the Office of the Secretary, either:

(1) By delivery to the Docketing and Service Branch of the Office of the Secretary at One White Flint North, 11555 Rockville Pike, Rockville, MD 20852; or

(2) By mail or telegram addressed to the Secretary, U.S. Nuclear Regulatory Commission, Washington, DC 20555, Attention: Docketing and Service Branch.

In accordance with 10 CFR 2.1205(f), each request for a hearing must also be served, by delivering it personally or by mail, to:

(1) The applicant, International Uranium (USA) Corporation, Independence Plaza, Suite 950, 1050 Seventeenth Street, Denver, Colorado 80265; Attention: Michelle Rehmann; and

(2) The NRC staff, by delivery to the Executive Director for Operations, One White Flint North, 11555 Rockville Pike, Rockville, MD 20852, or by mail addressed to the Executive Director for Operations, U.S. Nuclear Regulatory Commission, Washington, DC 20555.

In addition to meeting other applicable requirements of 10 CFR part 2 of the NRC’s regulations, a request for a hearing filed by a person other than an applicant must describe in detail:

(1) The interest of the requestor in the proceeding;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

The request must also set forth the specific aspect or aspects of the subject matter of the proceeding as to which petitioner wishes a hearing.

In addition, members of the public may provide comments on the subject application within 30 days of the publication of this notice in the Federal Register. The comments may be provided to Michael Lesar, Chief, Rules and Directives Branch, Division of Administration Services, Office of Administration, U.S. Nuclear Regulatory Commission, Washington, DC 20555.

Dated at Rockville, Maryland, this 9th day of August 2001.
For the U.S. Nuclear Regulatory Commission.
Melvyn Leach,
Chief, Fuel Cycle Licensing Branch, Division of Fuel Cycle Safety & Safeguards, Office of Nuclear Material Safety and Safeguards.

[FR Doc. 01-21291 Filed 8-22-01; 8:45 am]

BILLING CODE 7590-01-P